DEPARTMENT OF HOMELAND SECURITY

Coast Guard

33 CFR Part 165

[Docket No. USCG-2011-0015]

Security Zone; Protection of Military Cargo, Captain of the Port Zone Puget Sound, WA

AGENCY: Coast Guard, DHS.

ACTION: Notice of enforcement of regulation.

SUMMARY: The Coast Guard will enforce the Blair Waterway security zone in Commencement Bay, WA from 12:01 a.m. on January 6, 2011, through 11:59 p.m. on January 29, 2011. This action is necessary for the security of Department of Defense assets and military cargo during loading and off-loading operations taking place within the Blair Waterway, Commencement Bay, WA. During periods of enforcement, no person or vessel operator may enter the security zone unless authorized by the Captain of the Port, Puget Sound or Designated Representative.

DATES: The security zone described in 33 CFR 165.1321 (c)(1) will be enforced from 12:01 a.m. on January 6, 2011, through 11:59 p.m. on January 29, 2011.

FOR FURTHER INFORMATION CONTACT: If you have questions on this notice, call or e-mail LTJG Ashley M. Wanzer, Waterways Management Division, Sector Puget Sound, Coast Guard; telephone 206-217-6175, e-mail SectorPugetSoundWWM@uscg.mil.

SUPPLEMENTARY INFORMATION: The Coast Guard will enforce the Blair Waterway security zone in Commencement Bay, WA for protection of military cargo in 33 CFR 165.1321 from 12:01 a.m. on January 6, 2011, through 11:59 p.m. on January 29, 2011. A discussion of these regulations can be found in the preamble of a final rule published December 10, 2004 (69 FR 71709).

Under the provisions of 33 CFR 165.1321, vessel operators may not enter the following security zone described in § 165.1321(c)(1): All waters enclosed by a line connecting the following points: 47°16′57″ N, 122°24′39″ W, which is approximately the beginning of Pier No. 23 (also known as the Army pier); then northwesterly to 47°17′05″ N, 122°24′52″ W, which is the end of the Pier No. 23 (Army pier); then southwesterly to 47°16′42″ N, 122°25′18″ W, which is the approximate location of a private buoy on the end of the sewage outfall; then southeasterly to 47°16′33″ N, 122°25′04″ W, which is approximately the northwestern end of Pier No. 5; then northeasterly to the northwestern end of Pier No. 1; then southeasterly along the shoreline of the Blair Waterway to the Blair Waterway turning basin; then along the shoreline around the Blair Waterway turning basin; then northwesterly along the shoreline of the Blair Waterway to the Commencement Bay Directional Light (light list number 17159); then northeasterly along the shoreline to the point of origin. [Datum: NAD 1983].

All vessel operators must obtain permission from the COTP or Designated Representative to enter, move within, or exit the security zone during periods of enforcement. To obtain permission to transit the zone vessel operators can contact the on-scene patrol craft on VHF Channel 16/13 or VST Puget Sound on VHF Channel 14. Operators of vessels 20 meters or greater in length should seek permission from the COTP or a Designated Representative at least 4 hours in advance. Operators of vessels less than 20 meters in length should seek permission at least 1 hour in advance.

Any Coast Guard commissioned, warrant or petty officer may enforce the rules of this section. The Coast Guard may be assisted by other Federal, State, or local law enforcement agencies in enforcing this regulation. Vessels and persons granted permission to enter the security zone shall obey all lawful orders or directions of the Captain of the Port or Designated Representative. All vessels shall be operated at a minimum speed necessary to maintain a safe course.

This notice is issued under authority of 33 CFR 165.1321 and 5 U.S.C. 552(a).

If the COTP determines that the regulated area need not be enforced for the full duration stated in this notice, he may use a Broadcast Notice to Mariners to temporarily grant general permission to enter this zone during breaks between loading and off-loading operations.

Upon notice of temporary periods of suspension of enforcement by the Captain of the Port Puget Sound, all persons and vessels are authorized to enter, transit, and exit this security zone until the zone is reestablished and subject to enforcement.

Dated: January 5, 2011.
Scott J. Ferguson,
Captain, U.S. Coast Guard, Captain of the Port, Puget Sound.

[FR Doc. 2011-1034 Filed 1-18-11; 8:45 am]

BILLING CODE 9110-04-P